DEPARTMENT OF VETERANS AFFAIRS

[OMB Control No. 2900-0896]

Agency Information Collection Activity Under OMB Review: 35% Exemption Request From 85/15 Reporting Requirement

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0896.”

FOR FURTHER INFORMATION CONTACT: VA PRA information: Maribel Aponte, 202-461-8900, vacopaperworkreduact@va.gov.

SUPPLEMENTARY INFORMATION:

Title: 35% Exemption Request From 85/15 Reporting Requirement, VA Form 22-10216.

OMB Control Number: 2900-0896, https://www.reginfo.gov/public/do/PRASearch.

Type of Review: Revision of a currently approved collection.

Abstract: As part of the benefits authorization process, 38 CFR 21.4201 places restrictions on enrollment based on the percentage of students receiving financial support in any approved program. Except as otherwise provided by regulation, VA shall not approve an enrollment in any course for an eligible Veteran, not already enrolled, for any period during which more than 85 percent of the students enrolled in the course are having all or part of their tuition, fees or other charges paid for them by the educational institution or by VA under title 38 U.S.C., or under title 10 U.S.C. This is known as the 85/15 Rule and is applicable to Institutions of Higher Learning (IHLs) and Non-College Degree postsecondary schools.

The requirements apply to all courses, not otherwise exempt, or waived, offered by all educational institutions, regardless of whether the institution is degree-granting, proprietary profit, proprietary nonprofit, eleemosynary, public and/or tax-supported. Schools are required to submit information necessary to determine if their programs of training are approved for the payment of VA educational assistance. This specified information is submitted either to VA or to the State Approving Agency (SAA) having jurisdiction over that school. This regulation includes a provision that permits an exemption from routine reporting of this data for schools that assert that the number of VA beneficiary students in all programs approved for GI Bill never exceeds 35% of the total enrollment at the educational institution. If approved, such non-accredited schools must still monitor and collect the data, but are exempt from routinely reporting it to VA. The VA uses data from this information collection to determine that non-receipt of the routine reporting of 85/15 data is authorized by non-accredited schools. Non-accredited schools with an approved exemption are required to provide the complete 85/15 data during regular, periodic compliance survey reviews by VA to ensure no more than 85% of students in any approved program are students in receipt of financial support from the educational institution or by VA under title 38 U.S.C., or under title 10 U.S.C. Without this information, VA might pay benefits in error.

An agency may not conduct or sponsor, and a person is not required to respond to a collection of information unless it displays a currently valid OMB control number. The Federal Register Notice with a 60-day comment period soliciting comments on this collection of information was published at 89 FR 75059, September 13, 2024.

Affected Public: Educational Institutions.

Estimated Annual Burden: 1,411 hours.

Estimated Average Burden per Respondent: 30 minutes.

Frequency of Response: Annually.

Estimated Number of Respondents: 2,822.

Authority: 44 U.S.C. 3501 et seq.

Maribel Aponte,
VA PRA Clearance Officer, Office of Enterprise and Integration, Data Governance Analytics, Department of Veterans Affairs.

[FR Doc. 2024-27348 Filed 11-21-24; 8:45 am]

BILLING CODE 8320-01-P